DEPARTMENT OF COMMERCE

National Oceanic and Atmospheric Administration

RIN 0648-XF657

Atlantic Coastal Fisheries Cooperative Management Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit (EFP) renewal application from the Commercial Fisheries Research Foundation (CFRF) contains all of the required information and warrants further consideration. This permit would exempt participating commercial fishing vessels from Federal lobster escape vent, trap limit, and trap tag regulations, as well as restrictions on temporary possession of egg-bearing and v-notched female and sublegal-sized juvenile lobsters, to facilitate research on the abundance and distribution of juvenile American lobster and Jonah crab along the northwest Atlantic coast. Regulations under the Magnuson-Stevens Fishery Conservation and Management Act and the Atlantic Coastal Fisheries Cooperative Management Act require publication of this notification to provide interested parties the opportunity to comment on applications for proposed Exempted Fishing Permits.

DATES: Comments must be received on or before October 4, 2017.

ADDRESSES: You may submit written comments by any of the following methods:

• Email: NMFS.GAR.EFP@noaa.gov. Include in the subject line “Comments on CFRF Lobster Study Fleet EFP.”

• Mail: John K. Bullard, Regional Administrator, NMFS, Greater Atlantic Regional Fisheries Office, 55 Great Republic Drive, Gloucester, MA 01930. Mark the outside of the envelope “Comments on CFRF Lobster Study Fleet EFP.”

• Fax: (978) 281-9135.

FOR FURTHER INFORMATION CONTACT: Cynthia Hanson, Fishery Management Specialist, 978-281-9180, Cynthia.Hanson@noaa.gov.

SUPPLEMENTARY INFORMATION: The Commercial Fisheries Research Foundation submitted a complete application to renew an existing Exempted Fishing Permit on August 10, 2017, to conduct fishing activities that the regulations would otherwise restrict. The EFP would authorize 18 vessels to conduct a study using ventless traps to survey the abundance and distribution of juvenile American lobster and Jonah crab in regions and times of year not covered by traditional surveys. Overall, this EFP proposes to use a total of 54 ventless lobster traps throughout lobster management areas 2, 3, 4, and 5; covering statistical areas 514, 515, 521, 522, 525, 526, 533, 534, 537, 538, 539, 541, 542, 543, 561, 562, 613, 615, 616, 622, 623, 624, 626, 627, 628, 629, 632, 633, 634, 636, 637, 638, and 640. Maps depicting these areas are available on request. The study is designed to aid and inform management by addressing the questions of changing reproduction and recruitment dynamics of lobster, and developing a foundation of knowledge for the emergent Jonah crab fishery.

Funding for this study has been awarded through the Campbell Foundation and the Saltonstall-Kennedy Grants Program (Grant #NA17NMF4270208). For this research, CFRF is requesting exemptions from the following Federal lobster regulations:

1. Gear specification requirements in 50 CFR 697.21(c) to allow for closed escape vents and smaller trap mesh and entrance heads;

2. Trap limit requirements, as listed in § 697.19, for areas 2, 3, 4 and 5, to be exceeded by 3 additional traps per fishing vessel for a total of 54 additional traps;

3. Trap tag requirements, as specified in § 697.19(j), to allow for the use of untagged traps (though each experimental trap will have the participating fisherman's identification attached); and

4. Possession restrictions in §§ 697.20(a), 697.20(d), and 697.20(g) to allow for temporary possession of juvenile, v-notched, and egg-bearing lobsters for onboard biological sampling.

If the EFP is approved, this research would take place during the regular fishing activity of the participating 18 federally permitted commercial fishing vessels: 6 “inshore” vessels in lobster management area 2 and 12 “offshore” vessels in lobster management areas 3, 4, and 5. Each participating vessel would have up to three modified traps attached to a standard, Atlantic Large Whale-compliant trap trawl. No more than 54 total modified traps would be in the water at any time. Modifications to conventional lobster traps used in this study include a closed escape vents, single parlors, and smaller mesh sizes and entrance heads, all to allow for the capture of juvenile lobsters and Jonah crabs. Sampling would occur during regular fishing activity on each vessel weekly in area 2, and every 10 days in the other areas.

During sampling, all lobsters and Jonah crabs will be counted, sexed, and measured. Other biological information will be recorded on both lobster and Jonah crab catch, including shell hardness and presence of eggs. The possession exemptions are required to temporarily hold catch onboard for biological sampling before animals are promptly returned to the sea. No catch of any species from experimental traps will be landed for sale. All data collected will be made available to state and Federal management agencies to improve and enhance the available data for these two crustacean species.

If approved, the applicant may request minor modifications and extensions to the EFP throughout the study period. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: September 14, 2017.
Emily H. Menashes,
Acting Director, Office of Sustainable Fisheries, National Marine Fisheries Service.

[FR Doc. 2017-19925 Filed 9-18-17; 8:45 am]

BILLING CODE 3510-22-P